DEPARTMENT OF ENERGY

Federal Energy Regulatory Commission

[Docket No. EL18-53-000]

Calpine Corporation and LS Power Associates, L.P. v. ISO New England Inc.; Notice of Complaint

Take notice that on December 21, 2017, pursuant to sections 206 and 306 of the Federal Power Act, 16 U.S.C. 824(e), 825e, and Rule 206 of the Federal Energy Regulatory Commission's (Commission) Rules of Practice and Procedure, 18 CFR 385.206, Calpine Corporation and LS Power Associates, L.P. (Complainants) filed a formal complaint against ISO New England Inc. (ISO-NE or Respondent) alleging that ISO-NE's Transmission, Markets & Services Tariff (Tariff) is unjust and unreasonable because it requires ISO-NE to treat a new resource that has chosen to lock-in its price under the new entry pricing provisions of the Tariff as effectively having submitted offers into subsequent Forward Capacity Auctions priced at zero, even in circumstances where the development of such resource has been delayed so that it is not expected to be available for the relevant Capacity Commitment Period, all as more fully explained in the complaint.

Complainants certify that copies of the complaint were served on the contacts for ISO-NE, as listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 5 copies of the protest or intervention to the Federal Energy Regulatory Commission, 888 First Street NE, Washington, DC 20426.

This filing is accessible on-line at http://www.ferc.gov, using the eLibrary link and is available for electronic review in the Commission's Public Reference Room in Washington, DC. There is an eSubscription link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on January 4, 2018.

Dated: December 22, 2017.
Nathaniel J. Davis, Sr.,
Deputy Secretary.

[FR Doc. 2017-28323 Filed 1-2-18; 8:45 am]

BILLING CODE 6717-01-P